DEPARTMENT OF COMMERCE

United States Patent and Trademark Office

[Docket No. PTO-P-2010-0061]

Patent Examiner Technical Training Program

AGENCY: United States Patent and Trademark Office, Commerce.

ACTION: Notice.

SUMMARY: The United States Patent and Trademark Office (USPTO) is seeking public assistance in providing technical training to patent examiners within all technology centers. The Patent Examiner Technical Training Program (PETTP) is intended to provide scientists and experts as lecturers to patent examiners in order to update them on technical developments, the state of the art, emerging trends, maturing technologies, and recent innovations in their fields. Such guest lecturers must have relevant technical knowledge, as well as familiarity with prior art and industry practices/standards in areas of technology where such lectures would be beneficial.

DATES: Effective Date: September 15, 2010.

FOR FURTHER INFORMATION CONTACT: Raul Tamayo, Legal Advisor, Office of Patent Legal Administration, Office of the Associate Commissioner for Patent Examination Policy, at (571) 272-7728.

Wynn Coggins, Director of Technology Center (TC) 3600, available at (571) 272-5350, will provide oversight of the Patent Examiner Technical Training Program.

SUPPLEMENTARY INFORMATION: The USPTO is seeking public assistance in providing technical training to patent examiners within all technology centers. The Patent Examiner Technical Training Program is intended to provide scientists and experts as lecturers to patent examiners in order to update them on technical developments, the state of the art, emerging trends, maturing technologies, and recent innovations in their fields. Such guest lecturers must have relevant technical knowledge, as well as familiarity with prior art and industry practices/standards in areas of technology where such lectures would be beneficial. The Patent Examiner Technical Training Program is not intended as an opportunity for applicants to discuss pending applications or to circumvent normal communication between applicants or applicants' representatives and examiners or Supervisory Patent Examiners. In addition, Patent Examiner Technical Training Program participants are not to provide advice or recommendations to the USPTO. The Patent Examiner Technical Training Program is envisioned as an opportunity to provide patent examiners with necessary training from scientists and experts working directly in the various technologies throughout the USPTO. It is anticipated that lectures will last approximately two hours.

All participants in the Patent Examiner Technical Training Program must agree to serve without compensation and must fund their own expenses, including, but not limited to: travel to and from the USPTO, meals, and lodging arrangements. Webinars are an option for participants who elect not to travel. All offers for technical training made to the program will be tracked in a database to ensure that all offers for technical training are addressed. The USPTO reserves the right to refuse any request to participate in the program. Among other factors, whether a request to participate in the program is granted will depend on the appropriateness of the topic and the availability of resources. For granted requests, audience size will vary. If a participant is not satisfied with the program, the participant may contact Wynn Coggins, TC 3600 Director, who is overseeing the program.

The Patent Examiner Technical Training Program will be in effect as of the date noted above until further notice.

How to Participate: In order to participate in the Patent Examiner Technical Training Program, participants must fill in and submit the on-line form available at http://www.uspto.gov/patents/pettp.jsp, or send an e-mail to Examiner_Technical_Training@uspto.gov identifying the area of technical assistance that they can provide, their name and phone number, and other contact information as necessary. Once a participant fills in and submits the on-line form or sends the e-mail, the participant will receive a system generated e-mail response noting that the inquiry was received.

The participant thereafter should expect a telephone call from the point of contact within the specified area identified for technical assistance. During this initial telephone call, the participant will be informed of USPTO invited speaker requirements pursuant to Agency Administrative Order (AAO) 219-05. Also, the target audience will be identified and possible dates for the event discussed.

Prior to giving a presentation, all PETTP participants must sign the USPTO's Invited Speaker Conflict of Interest Policy Statement. In addition, PETTP presentations are sometimes recorded and made available to employees for viewing or listening at a later time. The Invited Speaker Conflict of Interest Policy Statement, as well as additional information on the PETTP, is available on the USPTO Web site at http://www.uspto.gov/patents/pettp.jsp.

Technical Areas: The USPTO believes patent examiner technical training on the technical areas identified below will be most beneficial. However, participants who wish to provide training in other technical areas may also contact the USPTO.

TC 1600—Biotechnology and Organic Chemistry: Formulation Chemistry; controlling drug release; drug targeting/conjugation and dosage form technology; drug delivery; nanotechnology (delivery of nucleic acids, antibodies, other molecules); statistical methods in validation of microarry data; personalized medicine, manufacture of carbon nanospheres, pharmaceutical/clinical chemistry for organic compounds, current animal models (emphasis on how they are being generated and used), advances in gene therapy, current methods in drug discovery (identifying current methods for the isolation and testing of natural products, and strategy for the modification of the isolated products into more potent/useful compounds).

TC 1700—Chemical and Materials Engineering: Analytical chemistry and lab apparatus, batteries, brazing, catalysts, chemical mechanical polishing, chemical process control, chemical reactors, detergents, dishwashers, distillation, electrochemical sensors, electroluminescent devices and processes of making, electro-osmosis, electrophoresis, electrophotography, electroplating, encapsulated circuitry/semiconductors, evaporation, fuel cells, gasification, glass/ceramics processing, growing monocrystals, hydrogen production, liquid and gas purification and separation, making nanotubes, microbiological apparatus, mixing, nanolithography, nanotechnology, perfumes, petroleum technology, photoelectric devices and processes, photolithography, pigments and inks, polymer chemistry, polymers, reformation, semiconductor cleaning techniques, solar cells, soldering, solid separators, thermoelectric, washing machines, and welding.

TC 2100—Computer Architecture and Software: Electrical Computers & Digital Data Processing Systems: Intrasystem Connection, Processing Access Control & Bus Interrupt Operation; Error Detection/Correction & Fault Detection/Recovery; Reliability; System Configuration/Timing/Power Control, Error Detection/Correction & Fault Detection/Recovery; Generic Control System, Apparatus or Process; Simulation & Modeling, Emulation of Computer Components; Artificial Intelligence (Neural Networks, Fuzzy Logic, Expert Systems, Rule based Systems); Database & File Management; Operator Interface (Windows, Menus, Icons, I/O user interaction, etc.); Document Processing (displaying, or processing for display, text, graphics, layouts); Processor Architecture & Instruction Processing; Computers: Memory Access & Control; Compilers & Software Development; Arithmetic Processing/Calculating; Interprogram/Interprocess Communications and Computer Task Management.

TC 2400—Networking, Multiplexing, Cable and Security: Wireless & Wired Comm Networks, LANs, WANs, OFDMA, CDMA, TDMA, Routing & Switching, Signaling, Network Mang., Flow Control, Congestion Control, Admission Control, Quality of Service, Queuing Systems, Interworking, VoIP, Label Switching, ATM, SONET, Mobile IP & 3G/4G Wireless Networks, computer conferencing, data streaming, data routing, client/server, computer conferencing, E-mail messaging, video distribution, remote data accessing, data transfer speed regulating, computer handshaking, computer data routing, Social Networks (Virtual Communities), Power Over Ethernet & Ethernet over Power lines, Digital VideoBroadcasting Standards MPEG4, ATSC, different video distribution on mobile devices, Internet Video distribution, New trends in electronic program guide, peer-to-peer video distribution, video sharing via cable distribution, wireless video distribution in home, HDMI, Biometric Devices, Elliptical Curves, Quantum Cryptography, Anti Viruses, Denial Services, AES—Advanced Encryption Standard, Social Network Security, Peer-to-Peer Security, DRM—Digital Right Management.

TC 2600—Communications: Spread spectrum, signal modulation, telemetry, electronic alarms, multiplexing, packet switching, optical communications, telephone systems, advanced intelligence networks, wireless communications, OFDMA, CDMA, TDMA, echo cancellation, MIMO, WiMax, 802.11, MPLS, SC-FDMA, Mobile IP6, television, electronic imaging, digital cameras, electronic image signal processing, video displays, pattern recognition, panoramic processing, stereoscopic processing, MPEG, JPEG, Blu-Ray, DVD technology, image compression, image enhancement, color space transformation, RFID, halftone printing, speech signal processing, optical recording, dynamic information storage, information storage disks, computer graphics processing, LCD displays, plasma displays, basics of optics, DWDM essentials and networks, SONET/SDH, optical transport networks, audio signal processing and compression, noise cancellation, hearing aids, and loudspeakers.

TC 2800—Semiconductors, Electrical and Optical Systems and Components: Mixed signal design and architecture, flexible displays, OLED display technology, nitride semiconductors, compound semiconductors, nanodevices, power converters, image sensors, motor controls, CMOS technology, quantum electronics, analog to digital and digital to analog converters, organic semiconductors, micro-opto-electromechanical systems, ASIC design, spintronics and magnetic random access memory (MRAM), non-volatile memory devices, semiconductor and electronic packaging technologies, solar cells, digital logic circuits, laser and fiber optics, phase change memory, photolithography, thin film deposition, light emitting diodes, digital cameras, optical waveguides, antennas, printing technology, MEMs, multilevel interconnections, LCDs, x-ray applications, photonic crystals, green power generation technologies, and sensors.

TC 3600—Transportation, Construction, Electronic Commerce, Agriculture, National Security, and License & Review: e-Commerce applications including: Social networking, network management, wireless technologies/communications/protocols, market optimization, demand forecasting, interactive visualization and simulation, project and resource planning & scheduling, local search optimization, decision analysis, supply chain optimization and management, simulation and stochastic modeling, static & dynamic optimization, resource allocation/calendar staffing and scheduling, optimization/coordination of travel reservations/planning and specialized travel query processing, determining/optimizing prices for goods/services, local and distributed postage metering, shipping (e.g., route planning, special handling, package tracking, RFID usage), transportation (e.g., fare, parking, tolls), utility usage (e.g., metering, pricing for consumed quantities of a utility), electronic trading, backend processing of financial trades, complex trading strategies of hedge funds (e.g., desire/need for complex strategies and how hedge funds utilize technology to carry out these complex strategies), derivative trading (e.g., credit default swaps). Mechanical and electrical applications including: Automobiles, transportation systems, building structures, firearms, aeronautics, material handling, radio and acoustic wave communications, earth boring, animal husbandry, plant husbandry.

TC 3700—Mechanical Engineering, Manufacturing and Products: Educational games; electric amusement devices; boot and shoe making; special receptacle or package; textiles; apparel; article carriers; tools; cutlery; metal working; manufacturing of electrical semiconductor, superconductor and nanotechnology; diagnostic medical imaging including MRI, X-Ray, ultrasound, visible and infrared imaging, nuclear and microwave imaging, and optical imaging; electronic controls for prosthetic devices (external prosthetics, gait analysis, etc.); exercise equipment; cell and tissue engineering; lung and heart-assist devices and fully implantable devices; internal combustion engines; heat engines; solar energy; turbochargers; exhaust gas treatment; catalytic converters; engine control systems; fluid power plants; refrigeration; heating systems for structures; electrical heating devices; valves and valve actuation; fluid handling; and pumps.

Dated: September 9, 2010.
David J. Kappos,
Under Secretary of Commerce for Intellectual Property and Director of the United States Patent and Trademark Office.

[FR Doc. 2010-23006 Filed 9-14-10; 8:45 am]

BILLING CODE 3510-16-P